DEPARTMENT OF LABOR

Employment and Training Administration

[TA-W-65,202; TA-W-65,202A]

Bright Wood Corporation; Madras, OR; Bright Wood Corporation, Redmond, OR; Notice of Termination of Investigation

Pursuant to Section 221 of the Trade Act of 1974, as amended, an investigation was initiated on February 10, 2009 in response to a worker petition filed by a company official on behalf of workers of Bright Wood Corporation, Madras, Oregon (TA-W-65,202) and Bright Wood Corporation, Redmond, Oregon (TA-W-65,202A).

The petitioner has requested that the petition be withdrawn. Consequently, the investigation has been terminated.

Signed at Washington, DC this 16th day of March 2009.
Elliott S. Kushner,
Certifying Officer, Division of Trade Adjustment Assistance.

[FR Doc. E9-7142 Filed 3-30-09; 8:45 am]

BILLING CODE 4510-FN-P